DEPARTMENT OF AGRICULTURE

Food and Nutrition Service

7 CFR Part 220

National School Breakfast Program: Additional Menu Planning Approaches

CFR Correction

In Title 7 of the Code of Federal Regulations, parts 210 to 299, revised as of January 1, 2001, on page 90, in § 220.8, the heading of paragraph (c) is revised to read as follows:

§ 220.8 What are the nutrition standards and menu planning approaches for breakfasts?

* * * * *

(c) What are the nutrient and calorie levels for breakfasts planned under the food-based menu planning approaches?

* * * * *

[FR Doc. C1-55519; Filed 6-22-01; 8:45 am]

BILLING CODE 1505-01-D